DEPARTMENT OF THE INTERIOR

Bureau of Land Management

[NM-922-05-1320-EL; OKNM 104763, OKNM 107920, OKNM 108097]

Notice of Public Hearing and Request for Written Comments on Fair Market Value and Maximum Economic Recovery; Coal Lease By Applications OKNM 104763, OKNM 107920 and OKNM 108097

AGENCY: Bureau of Land Management, Interior.

ACTION: Notice.

SUMMARY: The Bureau of Land Management (BLM) will hold a public hearing and requests written comments on the fair market value (FMV) and maximum economic recovery (MER) of certain coal resources it proposes to offer for competitive lease sale. The coal in the tracts would be mined by either surface, underground or auger mining methods.

The Oklahoma Field Office, BLM has completed the Oklahoma Resource Management Plan Amendment (RMPA) and Decision Record for competitive coal lease applications OKNM 104763, OKNM 107920 and OKNM 108097 in Haskell, Latimer and LeFlore Counties, Oklahoma. The Decision Record was signed by the New Mexico BLM State Director on September 29, 2004. The decision is to implement the BLM's preferred alternative, which will result in offering for lease, the three lease application areas with stipulations, and mitigations as described in the RMPA.

The Liberty West tract, OKNM 104763 is located in Haskell County, Oklahoma, and encompasses 640 acres. Estimated recoverable Federal reserves of bituminous coal from the Stigler seam is 2.366 million tons; 2.322 million tons recoverable by surface mining methods, and 44,000 tons recoverable by auger mining. The proximate analysis of the coal on a received basis averages 14,087 BTU/lb., with 2.2% moisture, 1.4% sulfur, 6.7% ash, 64.2% fixed carbon, and 26.7% volatile matter.

The Bull Hill tract, OKNM 107920 is located in Latimer and LeFlore Counties, Oklahoma, and encompasses 3,863.17 acres. Estimated recoverable Federal reserves of bituminous coal from two splits of the Lower Hartshorne seam is 8.993 million tons; 4.107 million tons recoverable by surface mining methods, 2.724 million tons recoverable by auger mining, and 2.162 million tons recoverable by underground mining methods. The proximate analysis of the coal on a received basis averages 13,450-14,000 BTU/lb., with 2.9-4.7% moisture, 0.8-1.4% sulfur, 5.6-7.1% ash, 53.5-72.3% fixed carbon, and 17.8-35.9% volatile matter.

The McCurtain tract, OKNM 108097 is located in Haskell County, Oklahoma, and encompasses 2,380 acres. Estimated recoverable Federal reserves of bituminous coal from the Hartshorne seam is 6.538 million tons recoverable by underground mining methods. The proximate analysis of the coal on a received basis averages 13,960 BTU/lb., with 3.1% moisture, 0.9% sulfur, 6.7% ash, 68.2% fixed carbon, and 22.0% volatile matter.

The public is invited to submit written comments on the FMV and MER of the tracts proposed to be offered for lease and on factors that may affect FMV and MER.

A public hearing will be held to accept testimony on FMV and MER of the proposed lease tracts at 1 p.m., on Tuesday, March 1, 2005, at the BLM Oklahoma Field Office in Tulsa, Oklahoma.

DATES: Written comments must be post-marked by March 24, 2005.

ADDRESSES: Mail written comments to John Mehlhoff, Field Manager, BLM, Oklahoma Field Office, 7906 East 33rd St., Suite 101, Tulsa, OK 74145. Electronic Mail: You may send comments through the Internet to BLM at: John_Mehlhoff@blm.gov. The public hearing will also be held at this address.

FOR FURTHER INFORMATION CONTACT: John Mehlhoff, Oklahoma Field Manager, BLM, Tulsa, OK at (918) 621-4102.

SUPPLEMENTARY INFORMATION: Procedures for leasing Federal coal are provided by 43 CFR 1600 and 3400. This notice to solicit public comments and have a public hearing on FMV and MER is required by 43 CFR 3422.1 and 43 CFR 3425.3. As provided by 43 CFR 3422.1(a), proprietary data marked as confidential may be provided in response to this solicitation of public comments. Data so marked shall be treated in accordance with the laws and regulations governing the confidentiality of such information. A copy of the comments submitted by the public on FMV and MER, except those portions identified as proprietary and meeting exemptions stated in the Freedom of Information Act (FOIA), will be available for public inspection at the BLM office noted above.

Comments on FMV and MER should address, but are not limited to the following factors:

1. The method of mining to be employed in order to obtain MER including specification of seams to be mined and the most desirable timing and rate of production;

2. The method of determining FMV for the coal to be offered;

3. The quality and quantity of the coal resource;

4. If this resource is likely to be mined as part of an existing mine or should it be evaluated as a portion of a new potential mine and that mine's configuration;

5. Restrictions to mining which may affect coal recovery;

6. The price that the mined coal would bring when sold; and

7. Documented information on the terms and conditions of recent and similar coal land transactions and comparable sales data in the lease sale area.

The values given above may or may not change as a result of comments received from the public and changes in market conditions between now and when final economic evaluations are completed.

If you wish to withhold your name or address from public review or from disclosure under the FOIA, you must state this prominently at the beginning of your written comments.

Such requests will be honored to the extent allowed by the FOIA. All submissions from organizations, businesses and individuals identifying themselves as representatives or officials of organizations or businesses will be available for public inspection in its entirety.

Dated: November 10, 2004.
Dennis R. Stenger,
Deputy State Director, Minerals and Lands, New Mexico State Office.

[FR Doc. 05-3288 Filed 2-18-05; 8:45 am]

BILLING CODE 4310-FB-P